DEPARTMENT OF HEALTH AND HUMAN SERVICES

Agency for Healthcare Research and Quality

Meeting of the Citizens' Health Care Working Group

AGENCY: Agency for Healthcare Research and Quality (AHRQ), HHS.

ACTION: Notice of public hearing.

SUMMARY: In accordance with section 10(a) of the Federal Advisory Committee Act, this notice announces a hearing of the Citizens' Health Care Working Group mandated by section 1014 of the Medicare Modernization Act. The Hearing will be conducted by the Hearings Committee of the Working Group.

DATES: The hearing will be held on Tuesday, July 26, 2005 from 8 a.m. to 2:30 p.m.

ADDRESSES: The hearing will be held in Houston, Texas at the Christus St. Joseph Hospital, 1919 La Branch, in the George Strake Building on the 9th floor. The hearing is open to the public.

FOR FURTHER INFORMATION CONTACT: Caroline Taplin, Citizens' Health Care Working Group, at (301) 443-1514 or ctaplin@ahrq.gov. If sign language interpretation or other reasonable accommodation for a disability is needed, please contact Mr. Donald L. Inniss, Director, Office of Equal Employment Opportunity Program, Program Support Center, on (301) 443-1144.

The agenda and roster is available on the Citizens' Working Group Web site, http://www.citizenshealth.ahrq.gov. When a transcription of the Group's July 26 hearing is completed, it will be available on the Web site.

SUPPLEMENTARY INFORMATION: Section 1014 of Public Law 108-173, (known as the Medicare Modernization Act) directs the Secretary of the Department of Health and Human Services (DHHS), acting through the Agency for Healthcare Research and Quality, to establish a Citizens' Health Care Working Group (Citizens Group). This statutory provision, codified at 42 U.S.C. 299 n., directs the Working Group to: (1) Identify options for changing our health care system so that every American has the ability to obtain quality, affordable health care coverage; (2) provide for a nationwide public debate about improving the health care system; and (3) submit its recommendations to the President and the Congress.

The Citizens' Health Care Working Group is composed of 15 members: the Secretary of DHHS is designated as a member by the statute and the Comptroller General of the U.S. Government Accountability Office (GAO) was directed to appoint the remaining 14 members. The Comptroller General announced the 14 appointments on February 28, 2005. A list of the Working Group members is available on the Citizens' Working Group Web site http://www.citizenshealth.ahrq.gov.

Agenda

The hearing on July 26 will consist of four panels addressing these topics: Hispanic health issues, rural health, institutional-based care and home and community care, and retiree health care issues.

Dated: July 7, 2005.
Carolyn M. Clancy,
Director.

[FR Doc. 05-13720 Filed 7-8-05; 9:36 am]

BILLING CODE 4160-90-M